DEPARTMENT OF ENERGY

Federal Energy Regulatory Commission

Combined Notice of Filings #1

Take notice that the Commission received the following exempt wholesale generator filings:

Docket Numbers: EG18-48-000.

Applicants: Techren Solar II LLC.

Description: Notice of Self-Certification of Exempt Wholesale Generator Status of Techren Solar II LLC.

Filed Date: 2/22/18.

Accession Number: 20180222-5109.

Comments Due: 5 p.m. ET 3/15/18.

Take notice that the Commission received the following electric rate filings:

Docket Numbers: ER16-323-004.

Applicants: Ohio Valley Electric Corporation.

Description: Errata to December 20, 2017 Updated Market Power Analysis in the MISO Balancing Area Authority of Ohio Valley Electric Corporation.

Filed Date: 2/22/18.

Accession Number: 20180222-5131.

Comments Due: 5 p.m. ET 3/15/18.

Docket Numbers: ER18-896-000.

Applicants: Meadow Lake Wind Farm II LLC.

Description: § 205(d) Rate Filing: Reactive Power Compensation to be effective 4/23/2018.

Filed Date: 2/22/18.

Accession Number: 20180222-5119.

Comments Due: 5 p.m. ET 3/15/18.

Docket Numbers: ER18-897-000.

Applicants: ISO New England Inc., New England Power Pool Participants Committee.

Description: § 205(d) Rate Filing: ISO-NE and NEPOOL; Reserve Designation and Settlement to be effective 6/1/2018.

Filed Date: 2/22/18.

Accession Number: 20180222-5121.

Comments Due: 5 p.m. ET 3/15/18.

Docket Numbers: ER18-898-000.

Applicants: PJM Interconnection, L.L.C.

Description: § 205(d) Rate Filing: Original WMPA, SA No. 4919, Queue No. AC2-073 to be effective 1/30/2018.

Filed Date: 2/23/18.

Accession Number: 20180223-5019.

Comments Due: 5 p.m. ET 3/16/18.

Docket Numbers: ER18-899-000.

Applicants: Commonwealth Edison Company, PJM Interconnection, L.L.C.

Description: § 205(d) Rate Filing: Commonwealth Edison Company submits Revisions to PJM Tariff Attachment H-13A to be effective 4/24/2018.

Filed Date: 2/23/18.

Accession Number: 20180223-5026.

Comments Due: 5 p.m. ET 3/16/18.

Docket Numbers: ER18-900-000.

Applicants: PJM Interconnection, L.L.C.

Description: Tariff Cancellation: Notice of Cancellation of WMPA, SA No. 4812; Queue W4-036 to be effective 4/2/2018.

Filed Date: 2/23/18.

Accession Number: 20180223-5043.

Comments Due: 5 p.m. ET 3/16/18.

Docket Numbers: ER18-901-000.

Applicants: ISO New England Inc., Emera Maine.

Description: § 205(d) Rate Filing: Original Service Agreement Under Schedule 21-EM of ISO-NE Tariff to be effective 5/16/2018.

Filed Date: 2/23/18.

Accession Number: 20180223-5054.

Comments Due: 5 p.m. ET 3/16/18.

Docket Numbers: ER18-903-000.

Applicants: Delmarva Power & Light Company, PJM Interconnection, L.L.C.

Description: § 205(d) Rate Filing: Delmarva Power & Light Company submits Revisions to PJM Tariff, Attachment H-3D to be effective 4/24/2018.

Filed Date: 2/23/18.

Accession Number: 20180223-5063.

Comments Due: 5 p.m. ET 3/16/18.

Docket Numbers: ER18-904-000.

Applicants: Atlantic City Electric Company, PJM Interconnection, L.L.C.

Description: § 205(d) Rate Filing: Atlantic City Electric Company submits Revisions to PJM Tariff, Attachment H-1A to be effective 4/24/2018.

Filed Date: 2/23/18.

Accession Number: 20180223-5064.

Comments Due: 5 p.m. ET 3/16/18.

Docket Numbers: ER18-905-000.

Applicants: Potomac Electric Power Company, PJM Interconnection, L.L.C.

Description: § 205(d) Rate Filing: Potomac Electric Power Company submits Revisions to PJM Tariff, Attachment H-9A to be effective 4/24/2018.

Filed Date: 2/23/18.

Accession Number: 20180223-5065.

Comments Due: 5 p.m. ET 3/16/18.

Docket Numbers: ER18-906-000.

Applicants: Midcontinent Independent System Operator Inc.

Description: § 205(d) Rate Filing: 2018-02-23_Compensation of Demand Response Resources to be effective 7/1/2018.

Filed Date: 2/23/18.

Accession Number: 20180223-5098.

Comments Due: 5 p.m. ET 3/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2018.
Nathaniel J. Davis, Sr.,
Deputy Secretary.

[FR Doc. 2018-04303 Filed 3-1-18; 8:45 am]

BILLING CODE 6717-01-P